DEPARTMENT OF COMMERCE

International Trade Administration

[A-570-918]

First Antidumping Duty Administrative Review of Steel Wire Hangers From the People's Republic of China: Extension of Time Limit for the Preliminary Results

AGENCY: Import Administration, International Trade Administration, Department of Commerce.

DATES: Effective Date: April 30, 2010.

FOR FURTHER INFORMATION CONTACT: Irene Gorelik, AD/CVD Operations, Office 9, Import Administration, International Trade Administration, U.S. Department of Commerce, 14th Street and Constitution Avenue, NW., Washington, DC 20230; telephone: (202) 482-6905.

Background

On November 25, 2009, the Department of Commerce (“Department”) initiated the first administrative review of the antidumping duty order on steel wire garment hangers from the People's Republic of China (“PRC”), covering the period March 25, 2008, through September 30, 2009. See Initiation of Antidumping and Countervailing Duty Administrative Reviews, 74 FR 61658 (November 25, 2009) (“Initiation”). The preliminary results of this administrative review were due no later than July 3, 2010.

On February 12, 2010, the Department exercised its discretion to toll the deadlines for all Import Administration cases by seven calendar days due to the February 5 through February 12, 2010, Federal Government closure. See “Memorandum to the Record from Ronald Lorentzen, DAS for Import Administration, regarding `Tolling of Administrative Deadlines as a Result of the Government Closure During the Recent Snowstorm,' ” dated February 12, 2010. As a result, the preliminary results of this administrative review are currently due on July 10, 2010.

On February 12, 2010, the Department selected two respondents for individual examination. See “Memorandum to James Doyle, Director, Office 9, Import Administration, from Josh Startup, International Trade Compliance Analyst, Import Administration; First Administrative Review of Steel Wire Garment Hangers from the People's Republic of China: Selection of Respondents for Individual Review,” dated February 12, 2010. Between March 2010 and April 2010, the selected respondents submitted responses to the Department's antidumping duty questionnaire, dated February 12, 2010.

Extension of Time Limit for the Preliminary Results

Section 751(a)(3)(A) of the Tariff Act of 1930, as amended (“the Act”), requires the Department to issue the preliminary results of an administrative review within 245 days after the last day of the anniversary month of an order for which a review is requested. If it is not practicable to complete the review within the time period, section 751(a)(3)(A) of the Act allows the Department to extend this deadline to 365 days.

The Department finds that it is not practicable to complete the preliminary results of this administrative review within the time period set forth in the Initiation, as tolled. Specifically, we determine that it is not practicable to complete the preliminary results of this administrative review within the original time limit because the respondent selection process was complicated due to the conflicting comments submitted by interesting parties, and the Department requires additional time to analyze questionnaire responses, issue supplemental questionnaires, and evaluate surrogate value submissions for purposes of the preliminary results.

Because the current deadline does not afford the Department adequate time to gather, analyze, request supplementary information, and review surrogate value information, the Department requires more time to complete the preliminary results. Therefore, in accordance with section 751(a)(3)(A) of the Act, the Department finds that it is not practicable to complete the preliminary results within the original time period and is extending the time limit for issuing the preliminary results by 120 days until November 8, 2010.¹ The final results continue to be due 120 days after the publication of the preliminary results.

¹ One hundred and twenty days from July 10, 2010, is November 7, 2010, which is a Sunday. However, Department practice dictates that where a deadline falls on a weekend, the appropriate deadline is the next business day. See Notice of Clarification: Application of “Next Business Day” Rule for Administrative Determination Deadlines Pursuant to the Tariff Act of 1930, As Amended, 70 FR 24533 (May 10, 2005).

This notice is published pursuant to sections 751(a)(3)(A) and 777(i) of the Act and 19 CFR 351.213(h)(2).

Dated: April 26, 2010.
Edward C. Yang,
Acting Deputy Assistant Secretary for Antidumping and Countervailing Duty Operations.

[FR Doc. 2010-10182 Filed 4-29-10; 8:45 am]

BILLING CODE 3510-DS-P